DEPARTMENT OF ENERGY

[OE Docket No. EA-267-A]

Application To Amend Authority To Export Electric Energy; Conectiv Energy Supply, Inc.

AGENCY: Office of Electricity Delivery and Energy Reliability, DOE.

ACTION: Notice of application.

SUMMARY: Conectiv Energy Supply, Inc. (CESI) has applied to amend its authority to transmit electric energy from the United States to Canada pursuant to section 202(e) of the Federal Power Act.

DATES: Comments, protests, or requests to intervene must be submitted on or before August 16, 2006.

ADDRESSES: Comments, protests or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On July 18, 2002, the Department of Energy (DOE) issued Order No. EA-267 authorizing CESI to transmit electric energy from the United States to Canada as a power marketer using international transmission facilities located at the United States border with Canada. That authorization expired on July 18, 2004.

On July 7, 2006, CESI filed an application with DOE to renew the export authority contained in Order No. EA-267. CESI has indicated that after expiration of Order No. EA-267, it inadvertently engaged in transactions resulting in the exportation of electricity to Canada. CESI has requested that any export authorization granted by DOE in this proceeding be made effective as of July 19, 2004, in order to validate those exports made subsequent to the expiration of its previous authorization. CESI asserts that it has not engaged in any transactions to export electric energy to Canada since June 1, 2006, and it commits not to engage in any further exports pending approval of the application in this proceeding.

CESI has also requested expedited treatment of this amendment application and that the authorization, if granted, be effective for a period of five years. In response to the CESI request, DOE has shortened the comment period to 15 days.

CESI will arrange for the delivery of exports to Canada over the international transmission facilities currently owned by Basin Electric Power Cooperative, Bonneville Power Administration, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company, and Vermont Electric Transmission Co.

Procedural Matters: Any person desiring to become a party to these proceedings or to be heard by filing comments or protests to this application should file a petition to intervene, comment, or protest at the address provided above in accordance with 385.211 or 385.214 of the Federal Energy Regulatory Commission's Rules of Practice and Procedures (18 CFR 385.211, 385.214). Fifteen copies of each petition and protest should be filed with DOE on or before the date listed above.

Comments on the CESI application to export electric energy to Canada should be clearly marked with Docket EA-267-A. Additional copies are to be filed directly with I. David Rosenstein, Esquire, General Counsel, Conectiv Energy, Legal Department, 800 North King Street, Wilmington, DE 19801 and Antonia A. Frost, Esquire, Bruder, Gentile and Marcoux, L.L.P., 1701 Pennsylvania Avenue, NW., Suite 900, Washington, DC 20006-5805.

A final decision will be made on this application after the environmental impacts have been evaluated pursuant to the National Environmental Policy Act of 1969, and a determination is made by the DOE that the proposed action will not adversely impact on the reliability of the U.S. electric power supply system.

Copies of this application will be made available, upon request, by e-mailing Odessa Hopkins at Odessa.hopkins@hq.doe.gov.

Issued in Washington, DC, on July 25, 2006.
Anthony J. Como,
Director, Permitting and Siting, Office of Electricity Delivery and Energy Reliability.

[FR Doc. E6-12315 Filed 7-31-06; 8:45 am]

BILLING CODE 6450-01-P